SECURITIES AND EXCHANGE COMMISSION

[Release No. 34-53635A; File No. SR-Amex-2005-075]

Self-Regulatory Organizations; American Stock Exchange LLC; Order Approving Proposed Rule Change and Amendments No. 2 and 3 Thereto Relating to the Establishment of a New Class of Registered Options Trader Called a Supplemental Registered Options Trader (“SROT”)

May 11, 2006.

Correction

FR Doc. E6-5800, beginning on page 20144 in the issue of April 19, 2006,¹ incorrectly stated the Exchange's proposal to modify Amex Rule 935-ANTE, which governs the allocation of unexecuted contracts. On page 20144, in the 3rd column, the incorrect portion of the order stated as follows:

¹See Securities Exchange Act Release No. 53635 (April 12, 2006), 71 FR 20144.

“However, when more than one market participant is quoting at the ABBO, and an SROT is interacting with its own firm's orders, the ANTE System will allocate the remaining contracts after non-broker dealer customer orders as follows: (i) 20% to an SROT interacting with its own firm's orders; (ii) 20% to the specialist; and (iii) the balance to registered options traders.”

The corrected sentence reads as follows:

“However, when more than one market participant is quoting at the ABBO, and an SROT is interacting with its own firm's orders, the ANTE System will allocate the remaining contracts after non-broker dealer customer orders as follows: (i) 40% to an SROT interacting with its own firm's orders and (ii) the balance to registered options traders and to the specialist.”

² 17 CFR 200.30-3(a)(12).

For the Commission, by the Division of Market Regulation, pursuant to delegated authority.²
J. Lynn Taylor,
Assistant Secretary.

[FR Doc. E6-7468 Filed 5-16-06; 8:45 am]

BILLING CODE 8010-01-P